Title 3—

The President

Executive Order 14381 of January 30, 2026

Celebrating American Greatness With American Motor Racing

By the authority vested in me as President by the Constitution and the laws of the United States of America, it is hereby ordered:

Section 1. Purpose and Policy. For over 100 years, American INDYCAR racing has set the pace for motor sports. With speeds topping over 200 miles per hour, the cars and drivers inspire awe and respect in all who watch this quintessentially American sport. It has given us racing legends such as A.J. Foyt and Mario Andretti, and continues to thrill every Memorial Day weekend when people travel from across the globe to the Indianapolis 500, the largest single-day sporting event in the world.

INDYCAR racing is a source of pride and entertainment for our Nation, which is why I am pleased to announce the Freedom 250 Grand Prix in Washington, D.C. This race, the first motor race ever to be held in our Nation's capital near the National Mall, will showcase the majesty of our great city as drivers navigate a track around our iconic national monuments in celebration of America's 250th birthday.

Sec. 2. Designating the Race Route. Within 14 days of the date of this order, the Secretary of the Interior and the Secretary of Transportation shall designate a route through Washington, D.C., that is suitable for conducting an INDYCAR street race and that will showcase the majesty of our capital city in celebration of the 250th anniversary of America's independence.

Sec. 3. Permits and Approvals. The Secretary of the Interior and the Secretary of Transportation shall take steps to ensure that all permits, approvals, and other authorizations as are necessary to plan, prepare for, and conduct the Freedom 250 Grand Prix are issued and granted as expeditiously as possible. Such steps may include the Secretary of the Interior considering the Freedom 250 Grand Prix to be a “special event” under 36 C.F.R. 7.96(g), as amended by 90 Fed. Reg. 25498 (temporary rule re: National Capital Region; America250 Events), if the Secretary of the Interior deems it necessary and appropriate. The Secretary of Transportation shall use available funds to help facilitate the presentation of the race, consistent with applicable law and as deemed appropriate by the Secretary of Transportation, and, working with and through the Administrator of the Federal Aviation Administration, take steps to ensure that unmanned aircraft systems and other means of aerial photography may be utilized by appropriately permitted individuals to enhance the public's enjoyment of the race and to celebrate the beauty of the Nation's capital without compromising nearby Government facilities. The Secretary of the Interior and the Secretary of Transportation, in coordination with the Mayor of Washington, D.C., as needed, shall ensure that any roads, trails, or bridges to be used as part of the race course are properly maintained and capable of being used in such a manner.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of the Interior.

THE WHITE HOUSE,

January 30, 2026.

[FR Doc. 2026-02292

Filed 2-3-26; 11:15 am]

Billing code 4310-10-P